DEPARTMENT OF THE INTERIOR

Bureau of Reclamation

Glen Canyon Dam Adaptive Management Work Group (AMWG)

AGENCY: Bureau of Reclamation, Interior.

ACTION: Notice of intent and notice of public meeting.

SUMMARY: The Adaptive Management Program (AMP) was implemented as a result of the Record of Decision on the Operation of Glen Canyon Dam Final Environmental Impact Statement to comply with consultation requirements of the Grand Canyon Protection Act (Pub. L. 102-575) of 1992. The AMP includes a federal advisory committee (AMWG), a technical work group (TWG), a monitoring and research center, and independent review panels. The AMWG makes recommendations to the Secretary of the Interior concerning Glen Canyon Dam operations and other management actions to protect resources downstream of Glen Canyon Dam consistent with the Grand Canyon Protection Act. The TWG is a subcommittee of the AMWG and provides technical advice and recommendations to the AMWG.

Dates and Addresses: The AMWG will conduct the following public meeting:

Phoenix, Arizona—December 5-6, 2006. The meeting will begin at 9:30 a.m. and conclude at 5 p.m. on the first day and begin at 8 a.m. and conclude at 3 p.m. on the second day. The meeting will be held at the Fiesta Inn Resort (Encantada Ballroom) located at 2100 South Priest Drive in Tempe, Arizona.

Agenda: The purpose of the meeting will be to (1) review and develop a recommendation to the Secretary of the Interior for a Long-Term Experimental Plan; (2) receive an update on progress for development of a Lower Colorado River recovery program and related work/goals for the endangered humpback chub; (3) discuss a selective withdrawal structure for Glen Canyon Dam; (4) review fiscal year 2006 program expenditures; (5) approve the public outreach Web site; and (6) discuss research and monitoring reports, basin hydrology, and other administrative and resource issues pertaining to the AMP. To view a copy of the draft agenda, please visit Reclamation's Web site at: http://www.usbr.gov/uc/rm/amp/amwg/mtgs/06dec05/index.html.

SUPPLEMENTARY INFORMATION:

Anticipated Approach Regarding Adoption of Long-Term Experimental Plan

Based upon the foregoing agenda, the Department of the Interior anticipates utilizing the information developed through, and any recommendation(s) from, the TWG and the AMWG in preparing appropriate environmental compliance documentation to analyze the alternatives for a Long-Term Experimental Plan for the future operation of Glen Canyon Dam and other potential associated management activities. The Long-Term Experimental Plan is intended to ensure a continued, structured application of adaptive management in such a manner as to protect, mitigate adverse impacts to, and improve the values for which Grand Canyon National Park and Glen Canyon National Recreation Area were established, including, but not limited to natural and cultural resources and visitor use, consistent with applicable federal law.

The Long-Term Experimental Plan will build on a decade of scientific experimentation and monitoring that has taken place as part of the AMP, and will build on the knowledge gained by experiments, operations, and management actions taken under the AMP. Accordingly, the Department intends to tier from earlier National Environmental Policy Act (NEPA) compliance documents prepared as part of the Department's Glen Canyon AMP efforts, see 40 CFR §§ 1500.4(i), 1502.20, and 1508.20(b), such as the 2002 Environmental Assessment prepared on adaptive management experimental actions at Glen Canyon Dam (Proposed Experimental Releases from Glen Canyon Dam and Removal of Non-Native Fish).

Notice of Intent

Pursuant to 40 CFR § 1508.22, the Department of the Interior, through this Federal Register notice, announces its notice of intent to prepare and consider an environmental impact statement on the adoption of a Long-Term Experimental Plan for the future operation of Glen Canyon Dam and other associated management activities. The Long-Term Experimental Plan is proposed to implement a structured, long-term, program of experimentation (including dam operations, potential modifications to Glen Canyon Dam intake structures, and other potential management actions, such as removal of non-native fish species) in the Colorado River below Glen Canyon Dam. The range of alternatives for the proposed action will be developed following recommendations provided by the AMWG. The Department anticipates initiation of consultation through the U.S. Fish and Wildlife Service, as appropriate, on the consideration and implementation of the Long-Term Experimental Plan.

Scoping

Pursuant to 40 CFR 1501.7(a)(1), 1501.7(b)(4), the Department of the Interior intends to utilize the information presented at the upcoming AMWG meeting as part of the scoping process in the NEPA process that is intended to address adoption and implementation of a Long-Term Experimental Plan pursuant to this Federal Register notice. In addition, Reclamation will also utilize the information developed through prior meetings of the AMWG, TWG, and Science Planning Group as relevant information for the purposes of scoping the upcoming NEPA process and to develop the appropriate scope of analysis pursuant to 40 CFR 1508.25. Opportunities for additional public comment will be described in a subsequent Federal Register notice.

Relationship With Settlement Agreement in Center for Biodiversity v. Kempthorne

Recently, the Center for Biodiversity and others filed suit against the U.S. Department of the Interior regarding operations of Glen Canyon Dam. In a Settlement Agreement approved by the United States District Court for the District of Arizona, the United States and Plaintiffs agreed to the following provision:

1. Not later than January 31, 2007, Reclamation shall initiate environmental documentation activities pursuant to NEPA and the ESA with respect to modification of current, or other prospective, operations of Glen Canyon Dam and associated management actions of Reclamation and other agencies with the Department of the Interior; * * * (Settlement Agreement at section 1, pg. 3)

It is the intention of the Department of the Interior to comply with this provision of the Settlement Agreement through this Notice of Intent published in the Federal Register. The Settlement Agreement can be found at the following Internet location: http://www.usbr.gov/uc/rm/amp/amwg/mtgs/06sep06CC/Attach_07.pdf.

FOR FURTHER INFORMATION CONTACT: Dennis Kubly, Bureau of Reclamation, telephone (801) 524-3715; faxogram (801) 524-3858; e-mail at dkubly@uc.usbr.gov.

To allow full consideration of information by the AMWG members, written notice must be provided to Dennis Kubly, Bureau of Reclamation, Upper Colorado Regional Office, 125 South State Street, Room 6107, Salt Lake City, Utah 84138; telephone (801) 524-3715; faxogram (801) 524-3858; e-mail at dkubly@uc.usbr.gov at least five (5) days prior to the meeting. Any written comments received will be provided to the AMWG members.

Public Disclosure

It is our practice to make comments, including names, home addresses, home telephone numbers, and e-mail addresses of respondents, available for public review. Individual respondents may request that we withhold their names and/or home addresses, etc., but if you wish us to consider withholding this information you must state this prominently at the beginning of your comments. In addition, you must present a rationale for withholding this information. This rationale must demonstrate that disclosure would constitute a clearly unwarranted invasion of privacy. Unsupported assertions will not meet this burden. In the absence of exceptional, documentable circumstances, this information will be released. We will always make submissions from organizations or businesses, and from individuals identifying themselves as representatives or officials of organizations or businesses, available for public inspection in their entirety.

Dated: October 24, 2006.
Darryl Beckmann,
Deputy Regional Director—UC Region, Bureau of Reclamation.

[FR Doc. E6-18575 Filed 11-3-06; 8:45 am]

BILLING CODE 4310-MN-P